ENVIRONMENTAL PROTECTION AGENCY

[EPA-HQ-OW-2015-0641; FRL-9986-92-OW]

Proposed Information Collection Request; Comment Request; Information Collection Request for Reporting Requirements for BEACH Act Grants (Renewal)

AGENCY: Environmental Protection Agency (EPA).

ACTION: Notice.

SUMMARY: The Environmental Protection Agency (EPA) is planning to submit an information collection request (ICR), “Information Collection Request for Reporting Requirements for BEACH Act Grants” (EPA ICR No. 2048.06, OMB Control No. 2040-0244) to the Office of Management and Budget (OMB) for review and approval in accordance with the Paperwork Reduction Act. Before doing so, the EPA is soliciting public comments on specific aspects of the proposed information collection as described below. This is a proposed extension of the ICR, which is currently approved through July 31, 2019. An Agency may not conduct or sponsor and a person is not required to respond to a collection of information unless it displays a currently valid OMB control number.

DATES: Additional comments must be submitted on or before January 22, 2019.

ADDRESSES: Submit your comments, referencing Docket ID Number EPA-HQ-OW-2015-0641 to the EPA (1) online using www.regulations.gov (our preferred method), or (2) by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

FOR FURTHER INFORMATION CONTACT: Tracy Bone, OW, 4305T, Environmental Protection Agency, 1200 Pennsylvania Ave. NW, Washington, DC 20460; telephone number: 202-564-5257; email address: bone.tracy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about the EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: The Beaches Environmental Assessment and Coastal Health (BEACH) Act amends the Clean Water Act (CWA) in part and authorizes the U.S. Environmental Protection Agency (EPA) to award BEACH Act Program Development and Implementation Grants to coastal and Great Lakes states, tribes, and territories (collectively referred to as jurisdictions) for their beach monitoring and notification programs. The grants assist those jurisdictions to develop and implement a consistent approach to monitor recreational water quality; assess, manage, and communicate health risks from waterborne microbial contamination; notify the public of pollution occurrences, and post beach advisories and closures to prevent public exposure to microbial pathogens. To qualify for a BEACH Act Grant, a jurisdiction must submit information to the EPA documenting that its beach monitoring and notification program is consistent with performance criteria outlined in the National Beach Guidance and Required Performance Criteria for Grants, 2014 Edition.

Form numbers: None.

Respondents/affected entities: Entities potentially affected by this action are environmental and public health agencies in coastal and Great Lakes states, territories, and tribes.

Respondent's obligation to respond: Required to obtain the grants as directed by the BEACH Act amendment to the CWA.

Estimated number of respondents: 39.

Frequency of response: Annual; however, the agency encourages more frequent reporting to provide more up-to-date information to the public.

Total estimated burden: 88,569 hours (per year). Burden is defined at 5 CFR 1320.03(b).

Total estimated cost: $14,865,812 (per year), includes $11,063,780 (per year) operation & maintenance costs. There are no capital costs.

Changes in estimates: There is a decrease of 2,707 hours in the total respondent burden compared with the ICR approved by OMB in July 2015 due to the respondents no longer needing to prepare and submit schedules for the adoption of new or revised WQS and identification and use of a beach notification threshold (BNT). The EPA no longer requests respondents submit these schedules because they are using BNTs or alternate BNTs and have either adopted new or revised WQS or are in the process of doing so. This decrease in hours is partially offset by one additional tribe having qualified for a BEACH grant. The total respondent cost decreased by $587,496. The decrease in cost is partially offset by slight increases in the salary rates. The O&M decreased by $289,366 due to a reduction in the total number of beaches (affecting O&M). The number of beaches reported by the jurisdictions varies from year to year for many reasons. Reasons for removing beaches include the destruction of beaches by natural disasters, change in beach ownership, and existing beaches being combined within a jurisdiction's monitoring and notification program.

Dated: November 13, 2018.
Deborah G. Nagle,
Acting Director, Office of Science and Technology.

[FR Doc. 2018-25423 Filed 11-20-18; 8:45 am]

BILLING CODE 6560-50-P